DEPARTMENT OF LABOR

Employment and Training Administration

[TA-W-33,947]

Herman Katz Enterprises, d/b/a H.K. Company Now Known as Katz Lace Corporation, New York, NY; Amended Certification Regarding Eligibility To Apply for Worker Adjustment Assistance

In accordance with Section 223 of the Trade Act of 1974 (19 U.S.C. 2273) the Department of Labor issued a Certification of Eligibility to Apply for Worker Adjustment Assistance on December 11, 1997, applicable to workers of Herman Katz Enterprises, d/b/a H.K. Company, New York, New York. The notice was published in the Federal Register on January 6, 1998 (63 FR 578).

At the request of the State agency, the Department reviewed the certification for workers of the subject firm. The workers were engaged in the production of lace and performed office, administration, warehousing and distribution services. The company reports that in October, 1997, Herman Katz Enterprises, d/b/a H.K. Company “became known as Katz Lace Corporation”. Worker separations continued to occur at the subject firm until its closing in November, 1999.

Accordingly, the Department is amending the certification determination to correctly identify the new title name to read “Herman Katz Enterprises, d/b/a H.K. Company, now know as Katz Lace Corporation”, New York, New York.

The intent of the Department's certification is to include all workers of Herman Katz Enterprises, d/b/a H.K. Company, now known as Katz Lace Corporation who were adversely affected by increased imports.

The amended notice applicable to TA-W-33, 947 is hereby issued as follows:

All workers of Herman Katz Enterprises, d/b/a H.K. Company, now known as Katz Lace Corporation, New York, New York who became totally or partially separated from employment on or after October 7, 1996 through December 11, 1999 are eligible to apply for adjustment assistance under Section 223 of the Trade Act of 1974.

Signed at Washington, DC, this 12th day of May 2000.
Grant D. Beale,
Program Manager, Division of Trade Adjustment Assistance.

[FR Doc. 00-12771 Filed 5-19-00; 8:45 am]

BILLING CODE 4510-30-M